DEPARTMENT OF DEFENSE

Office of the Secretary

[Transmittal No. 17-39]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 17-39 with attached Policy Justification; Sensitivity of Technology; and State Department Emergency Determination and Justification.

Dated: July 19, 2019.
Aaron T. Siegel,
Alternate OSD Federal Register Liaison Officer, Department of Defense.

BILLING CODE 5001-06-P

BILLING CODE 5001-06-C

Transmittal No. 17-39

Notice of Proposed Issuance of Letter of Offer Pursuant to Section 36(b)(1) of the Arms Export Control Act, as amended

(i) Prospective Purchaser: United Arab Emirates

(ii) Total Estimated Value:

Major Defense Equipment * | $35 million
Other | $45 million
TOTAL | $80 million

(iii) Description and Quantity or Quantities of Articles or Services under Consideration for Purchase:

Major Defense Equipment (MDE):

Twenty (20) RQ-21A Blackjack Unmanned Air Vehicles (UAVs)

Non-MDE:

This request also includes the following Non-MDE: Forty (40) Global Positioning Systems (GPS) with Selective Availability Anti-Spoofing Module (SAASM) Type II (MPE-S), air vehicle support equipment to include eight (8) Ground Control Stations (GCS), four (4) launchers, and four (4) retrievers, spare and repair parts, publications, training and technical support services.

(iv) Military Department: Navy (AE-P-SAW)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: May 24, 2019

* As defined in Section 47(6) of the Arms Export Control Act.

POLICY JUSTIFICATION

United Arab Emirates (UAE)—RQ-21A Blackjack Unmanned Air Vehicles

The Government of the UAE has requested to buy twenty (20) RQ-21A Blackjack Unmanned Air Vehicles (UAVs). Also included are forty (40) Global Positioning Systems (GPS) with Selective Availability Anti-Spoofing Module (SAASM) Type II (MPE-S); air vehicle support equipment including eight (8) Ground Control Stations (GCS), four (4) launchers, and four (4) retrievers; spare and repair parts; publications; training; and technical support services. The estimated total case value is $80 million.

The Secretary of State has determined and provided detailed justification that an emergency exists that requires the immediate sale to the United Arab Emirates of the above defense articles (and defense services) in the national security interests of the United States, thereby waiving the Congressional review requirements under Section 36(b) of the Arms Export Control Act, as amended.

This proposed sale will contribute to the foreign and national security of the United States by improving the security of an important ally in the Middle East. This sale is consistent with U.S. national security objectives of assisting the UAE in developing and maintaining a strong and ready self-defense capability and enhancing interoperability with U.S. forces. The UAE will have no difficulty absorbing these UAVs into its armed forces.

The proposed sale of this equipment and support will not alter the basic military balance in the region.

The prime contractor will be Insitu, Bingen, WA, a wholly owned subsidiary of the Boeing Company. There are no known offset agreements proposed in connection with this potential sale.

Implementation of this proposed sale will require multiple trips by U.S. Government and contractor representatives to participate in program and technical reviews plus training and maintenance support in country, on a temporary basis, for a period of twenty-four (24) months. It will also require one (1) contractor representative to reside in country for a period of two (2) years to support this program.

There will be no adverse impact on U.S. defense readiness as a result of this proposed sale.

Transmittal No. 17-39

Notice of Proposed Issuance of Letter of Offer Pursuant to Section 36(b)(1) of the Arms Export Control Act

Annex

Item No. vii

(vii) Sensitivity of Technology:

1. The following components and technical documentation for the program are classified as listed below:

a. The RQ-21 unmanned aircraft system (UAS) is a runway-independent, modular unmanned aircraft system that is designed for a variety of missions. The RQ-21 UAS has four subsystems: RQ-21A air vehicle (AV), launcher, retriever, and ground control stations (GCS).

1) The RQ-21A AV is a fixed-wing, single engine AV remotely controlled by an operator via the GCS.

2) The launcher is a pneumatically-controlled launch device that accelerates the RQ-21A AV to flying speed.

3) The retriever is a hydraulically-controlled telescoping crane that captures the RQ-21A AV at the end of the flight.

4) The GCS is a workstation that is used to plan missions, control and monitor the RQ-21A AV, and manage the data received from the air vehicle.

b. The RQ-21 UAS is capable of transport via ground, air, or ship. The RQ-21 UAS performs a wide variety of reconnaissance, intelligence, and special missions. Operationally or tactically vital data may be obtained cost-effectively by exploiting the UAS mission systems and payload options. The RQ-21A AV is designed to perform air reconnaissance (AR) based missions. It is equipped to carry a forward turret to support the primary mission of reconnaissance and an assortment of specialized, mission specific, payloads within the center payload bay. The Electro Optical/Infrared (EO/IR) Imager Counter Countermeasures sensor ball is the Alticam 11 EOIR4, which provides exceptional day/night capability in a small, lightweight, low power solution, or the EOIR5 which adds a laser designator capability. It uses mid-wave infrared (MWIR) electro-optical image, a gyro-stabilized gimbal system, has multiple operating modes, is compatible with the Alticam video processing board (AVS), and has a laser pointer and rangefinder. It is designed for small unmanned aerial vehicles (UAVs), and is also used on piloted airplanes, blimps, ground vehicles, and unmanned surface vehicles.

c. The imagery and electronic reconnaissance functions of the RQ-21A AV support intelligence functions and operational warfighting missions. Intelligence-based support functions range from intelligence, surveillance, and reconnaissance (ISR) to intelligence preparation of the battlefield (IPB) including imagery associated sub-tasks. Operational functions are enhanced by a laser rangefinder and infrared marking system. The turret, with laser system, facilitates target acquisition and terminal guidance operations in support of a wide breadth of aviation support to MAGTF operations mission. These include but are not limited to point, area, and route reconnaissance; convoy escort; call for indirect fires; battle damage assessment; and tactical recovery of aircraft and personnel. The aircraft also passively supports radio communications relay and the vessel traffic function of automatic identification.

d. The GCS includes an operator work station (OWS), a ground data terminal for C2 communication and video downlink, and a GPS electronics module (GEM) integration kit for navigation. The GCS is composed of a standard component package. If installed on a ship, the GCS will be composed of the same components as the land based system, but the number and arrangement of each of the components will vary depending on the specific class of ship on which the GCS is installed. The RQ-21 GCS is comprised of the following components:

1) Two operator work stations. The OWS consist of four modules: electronics power module (EPM), network computer module (NCM), user interface module (UIM), and the data storage module (DSM). The EPM provides the power source for the GCS. The EPM is the bottom module in the OWS. The UIM is not installed in the GCS for ship-based operations.

2) Ground data terminal. The GDT includes the antenna interface module (AIM), directional antenna, and omni antennas (for ship-board operations only). The AIM models are different between land and ship-based configurations.

3) GEM integration kit. The GEM integration kit includes the GEM itself and the ground GPS antenna.

4) Moving platform module (MPM) integration kit (ship-based only).

5) Selective availability and anti-spoofing module (SAASM) GPS antenna.

6) Systems check laptop.

7) GCS cables.

e. The launcher provides the initial RQ-21A AV speed required for air vehicle flight over a wide range of wind and density altitude conditions, and enables expeditionary employment of the UAS in locations without suitable runways. The launcher is designed for transport by air, ship, or towed by light vehicles into rugged terrain. The launcher is made up of the launcher core and systems and the accessory components. The launcher core is attached lengthwise on the launcher trailer deck at two interface towers. The trailer is used to transport the launcher components and serves as a platform for the launcher core and systems.

f. The retriever system is comprised of the recovery system and trailer. The recovery system is a hydraulically-controlled telescoping crane mast that uses a vertical capture rope to catch the RQ-21A AV. The vertical capture rope features a bungee and rope energy dissipation system. The retriever is mounted to a modified MIL-STD trailer chassis. The trailer frame and hitch assembly connects the retriever to a towing vehicle. The trailer has one axle and four outriggers that are installed for use.

g. While no part of the RQ-21A UAS is itself classified, the following performance data and technical characteristics are classified as annotated:

RQ-21 Unmanned Aircraft System (UAS)
GPS P/Y Code navigation equipment | SECRET when keyed.
UAS Susceptibility to Jamming | SECRET.
UAS TEMPEST Characteristics | SECRET.
UAS Vulnerabilities | SECRET.
UAS Survivability | SECRET.
UAS Radar Cross Section | Up to SECRET.
UAS Infrared Signature | SECRET.
UAS Electromagnetic Interference (EMI) Vulnerability | SECRET.
UAS Threat Data | SECRET.
Communications Relay Tactical Employment | CONFIDENTIAL.
Electro Optical/Infrared (EO/IR) Imager Counter Countermeasures | SECRET.
EO/IR Imager Operational Characteristics Up to | SECRET.
Automatic Information System Vulnerabilities | SECRET.

2. If a technologically advanced adversary obtains knowledge of the specific hardware and software elements, the information could be used to develop countermeasures or equivalent systems that might reduce weapon system effectiveness or be used in the development of a system with similar or advanced capabilities.

3. A determination has been made that the United Arab Emirates can provide substantially the same degree of protection for the sensitive technology being released as the U.S. Government. This proposed sale of the RQ-21 UAS and associated equipment is necessary to the furtherance of the U.S. foreign policy and national security objectives outlined in the policy justification.

4. All defense articles and services listed in this transmittal are authorized for release and export to the Government of the United Arab Emirates.

BILLING CODE 5001-06-P

[FR Doc. 2019-15748 Filed 7-23-19; 8:45 am]

BILLING CODE 5001-06-C